DEPARTMENT OF THE INTERIOR

National Park Service

[NPS-WASO-NAGPRA-NPS0033402; PPWOCRADN0-PCU00RP14.R50000]

Notice of Inventory Completion: Indiana University, Bloomington, IN

AGENCY: National Park Service, Interior.

ACTION: Notice.

SUMMARY: Indiana University has completed an inventory of human remains, in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to Indiana University's NAGPRA Office. If no additional requestors come forward, transfer of control of the human remains to the Indian Tribes or Native Hawaiian organizations stated in this notice may proceed.

DATES: Representatives of any Indian Tribe or Native Hawaiian organization not identified in this notice that wish to request transfer of control of these human remains should submit a written request with information in support of the request to Indiana University's NAGPRA Office at the address in this notice by March 25, 2022.

FOR FURTHER INFORMATION CONTACT: Dr. Jayne-Leigh Thomas, Indiana University, Office of the Native American Graves Protection and Repatriation Act, Student Building 318, 701 E Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains under the control of Indiana University, Bloomington, IN. The human remains were removed from Maury County, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Indiana University professional staff in consultation with representatives of the Cherokee Nation; Eastern Band of Cherokee Indians; and The Chickasaw Nation. The Eastern Shawnee Tribe of Oklahoma; Shawnee Tribe; The Choctaw Nation of Oklahoma; and the United Keetoowah Band of Cherokee Indians in Oklahoma were invited to consult but did not participate. Hereafter, all Indian Tribes listed in this section are referred to as “The Consulted and Invited Tribes”.

History and Description of the Remains

On an unknown date, human remains representing, at minimum, one individual were removed from an unknown location in Maury County, TN. The collection came to Indiana University sometime prior to 1956, and it is part of a larger collection known as the “Cincinnati Series.” While notes indicate the collection came from the Cincinnati Society of Natural History, there are no documents associated with the transfer to Indiana University. No known individual was identified. No associated funerary objects are present.

Determinations Made by Indiana University

Officials of Indiana University have determined that:

• Pursuant to 25 U.S.C. 3001(9), the human remains described in this notice are Native American based on additional components of the Cincinnati Series.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Treaties (3rd Treaty of Tellico of 1805, Dearborn's Treaty of 1806, and the 1805 Treaty with The Chickasaw Nation) indicate that the land from which the Native American human remains were removed is the aboriginal land of the Cherokee Nation; Eastern Band of Cherokee Indians; The Chickasaw Nation; and the United Keetoowah Band of Cherokee Indians in Oklahoma (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. Jayne-Leigh Thomas, Indiana University, Office of the Native American Graves Protection and Repatriation Act, Student Building 318, 701 E Kirkwood Avenue, Bloomington, IN 47405, telephone (812) 856-5315, email thomajay@indiana.edu, by March 25, 2022. After that date, if no additional requestors have come forward, transfer of control of the human remains to The Tribes may proceed.

Indiana University is responsible for notifying The Consulted and Invited Tribes that this notice has been published.

Dated: February 9, 2022.
Melanie O'Brien,
Manager, National NAGPRA Program.

[FR Doc. 2022-03739 Filed 2-22-22; 8:45 am]

BILLING CODE 4312-52-P